DEPARTMENT OF COMMERCE

National Oceanic and Atmospheric Administration

RIN: 0648-XD96

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its, Scientific and Statistical Committee (SSC), Spiny Lobster Committee, Joint Executive and Finance Committees, Southeast Data, Assessment, and Review (SEDAR) Committee, Snapper Grouper Committee, Ecosystem-based Management Committee, SSC Selection Committee (Closed Session), Standard Operations, Policy, and Procedures (SOPPs) Committee, and a meeting of the full Council. The Council will also hold a meeting of the Limited Access Privilege (LAP) Program Exploratory Workgroup and public hearings regarding Amendment 15A to the Snapper Grouper Fishery Management Plan (FMP) to address rebuilding plans for snowy grouper, black sea bass, and red porgy, and Amendment 15B to the Snapper Grouper FMP addressing the sale of recreationally-caught snapper grouper species, methods to reduce the effects of incidental hooking on sea turtles and smalltooth sawfish, commercial permit renewal periods and transferability requirements, implementation of a plan to monitor and access bycatch, establishment of reference points, such as Maximum Sustainable Yield (MSY) and Optimum Yield (OY) for golden tilefish, and establishment of allocations for snowy grouper and red porgy. In addition, the Council will hold a public scoping meeting for: 1) Amendment 7 to the Shrimp FMP addressing current qualifying criteria for a limited access program for the South Atlantic rock shrimp fishery and 2) allocation of the South Atlantic commercial king mackerel quota. See SUPPLEMENTARY INFORMATION for additional details.

DATES: The meetings will be held in December 2007. See SUPPLEMENTARY INFORMATION for specific dates and times.

ADDRESSES: The meetings will be held at the Sheraton Atlantic Beach Oceanfront Hotel, 2717 W. Fort Macon Road, Atlantic Beach, NC 28512; telephone: (1-800) 624-8875 or (252) 240-1155. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Scientific and Statistical Committee Meeting: December 2, 2007, 3 p.m. until 6 p.m.; December 3, 2007 from 8 a.m. until 6 p.m., and December 4, 2007 from 8 a.m. until 5 p.m (Concurrent Sessions)

The Scientific and Statistical Committee will meet to identify an independent reviewer and SSC participants for SEDAR assessments, review scheduling and planning for upcoming SEDAR assessment activities, and discuss fishing level recommendations. The SSC will also receive an update on the status of Amendment 14 to the Snapper Grouper FMP addressing marine protected areas. The Committee will be provided with at status update and provide recommendations on Amendment 16 to the Snapper Grouper FMP to address overfishing for gag and vermilion snapper, and Amendments 15A and Amendment 15B to the Snapper Grouper FMP. The SSC will also review additional proposed amendments to the Snapper Grouper FMP, a proposed Comprehensive Allocation Amendment, Amendment 7 to the Shrimp FMP, the Council's Fishery Ecosystem Plan (FEP) and the FEP Comprehensive Amendment, and potential methods for allocation of the commercial king mackerel quota, and conduct other business as required.

2. Spiny Lobster Committee Meeting: December 3, 2007, 1:30 p.m. until 3 p.m.

The Spiny Lobster Committee will meet to discuss the development of a three-Council amendment to address imports, with the Caribbean Fishery Management Council as the administrative lead. The Committee will review and discuss other issues in the fishery and develop a timeline for the next amendment.

3. Joint Executive and Finance Committees Meeting: December 3, 2007, 3 p.m. until 4:30 p.m.

The Executive and Finance Committees will meet to discuss and approve the Calendar Year (CY) 2008 FMP/Amendment/Framework Schedule, Activities Schedule, and the 2008 budget. The Committees will also discuss a proposed new Scoping/Public Hearing Process and develop recommendations for the Council.

4. SEDAR Committee Meeting: December 3, 2007, 4:30 p.m. until 5 p.m.

The SEDAR Committee will meet to review and discuss actions from the recent SEDAR Steering Committee meeting, review and discuss SEDAR 17 addressing South Atlantic Spanish mackerel and vermilion snapper, and develop recommendations for the May 2008 SEDAR Steering Committee meeting.

Note: The Council will hold a public scoping meeting and public hearings on December 3, 2007 beginning at 7 p.m. Public scoping will be held for Amendment 7 to the Shrimp FMP addressing permit renewal qualifications for the South Atlantic rock shrimp fishery. A scoping session will also be held to address potential methods for allocation of the South Atlantic commercial king mackerel quota.

Public hearings will be held for Amendment 15A to the Snapper Grouper FMP addressing stock rebuilding plans for snowy grouper, black sea bass, and red porgy, and Amendment 15B to the Snapper Grouper FMP that addresses: (1) the sale of recreationally-caught snapper grouper species, (2) methods to reduce the effects of incidental hooking on sea turtles and smalltooth sawfish, (3) changes to commercial permit renewal periods and transferability requirements, (4) implementation of a plan to monitor and access bycatch, (5) establishment of reference points, such as Maximum Sustainable Yield (MSY) and Optimum Yield (OY) for golden tilefish, and (6) establishment of allocations for snowy grouper and red porgy.

5. Snapper Grouper Committee Meeting: December 4, 2007, 8 a.m. until 5 p.m. and December 5, 2007, from 8 a.m. until 12 noon

The Snapper Grouper Committee will begin its meeting with a legal briefing on recent litigation (CLOSED SESSION). The Committee will then complete its meeting in Open Session. The Committee will review amendment content and timing, and review and approve Amendment 16 for public hearing. The Committee will also review Amendment 15A public hearing and SSC comments and approve the amendment for formal review by the Secretary of Commerce. They will also review Amendment 15B public hearing comments and SSC comments and provide direction to staff, and review Amendment 17 and approve for public scoping. Management issues covered in Amendment 17 include but are not limited to: allocation overages, bycatch reduction in the deepwater snapper grouper fishery, changes in the golden tilefish fishing year, regional quotas for snowy grouper, snapper grouper longline fishery, etc.

6. LAP Program Exploratory Workgroup Meeting: December 5, 2007, 8 a.m. until 6 p.m. and December 6, 2007, 8 a.m. until 3 p.m. (Concurrent Sessions)

The LAP Program Workgroup will meet to review the updated LAP Program Workgroup Draft Working Document, receive updates from the Outreach Sub-Committee and the Monitoring Sub-Committee, and receive a presentation on Status Quo Expectations. The Workgroup will receive law enforcement option recommendations, a presentation on Initial Allocation Analyses, and discuss Initial Allocation Options. The Workgroup will also discuss LAP Program options that consider regional differences, community quota and regional fishing associations, and cooperatives and sector allocation programs.

7. Joint Habitat and Ecosystem-based Management Committees Meeting: December 5, 2007, 1:30 p.m. until 6 p.m.

The Habitat Committee will meet jointly with the Ecosystem-based Management Committee to review recommendations from the recent meeting of the joint Habitat and Coral Advisory Panels, review a proposal from Gray's Reef National Marine Sanctuary for a closed research area, and receive updates on the development of the Fishery Ecosystem Plan (FEP) and the FEP Comprehensive Amendment. The Committee will discuss and develop a position on a Liquefied Natural Gas (LNG) proposal, and receive reports on Ocean Observing Systems and an alternative energy workshop.

8. SSC Selection Committee Meeting: December 6, 2007, 8 a.m. until 10:30 a.m. (CLOSED SESSION)

The SSC Selection Committee will discuss SSC tasks, personnel requirements, and technical committees.

9. SOPPs Committee Meeting: December 6, 2007, 10:30 a.m. until 12 noon

The SOPPs Committee will receive an update on the review of the Council's SOPPs by the Secretary of Commerce and develop changes if necessary.

10. Council Session: December 6, 2007, 1:30 p.m. until 6 p.m. and December 7, 2007, 8 a.m. until 12 noon

Council Session: December 6, 2007, 1:30 p.m. until 7 p.m.

From 1:30 p.m. - 1:45 p.m., the Council will call the meeting to order, adopt the agenda, and approve the September 2007 meeting minutes.

From 1:45 p.m. - 2:15 p.m., the Council will receive a presentation from the NOAA Fisheries Southeast Fisheries Science Center on the Data Improvement Plan.

From 2:15 p.m. - 2:45 p.m., the Council will receive a presentation on the South Atlantic Alliance.

From 2:45 p.m. - 3:15 p.m., the Council will receive a report from the SSC.

From 3:15 p.m. - 3:45 p.m., the Council will receive a presentation on the Marine Recreational Fisheries Statistics Survey (MRFSS) Program.

From 3:45 p.m. - 4 p.m., the Council will receive a report from the Spiny Lobster Committee and take action as appropriate.

From 4 p.m. - 5:30 p.m., the Council will receive a report from the Snapper Grouper Committee, approve Amendment 15A for submission to the Secretary of Commerce, and consider other recommendations and take action as appropriate.

4 p.m - Public Comment Session: Public comment on Amendment 15A to the Snapper Grouper FMP.

From 5:30 p.m. - 5:45 p.m., the Council will receive a report from the LAP Program Work Group and take action as appropriate.

From 5:45 p.m. - 6 p.m., the Council will receive a report from the Joint Executive and Finance Committees and take action as appropriate.

From 6 p.m. - 7 p.m., the Council will receive a presentation on the Gulf of Mexico Council's Aquaculture Plan (that will amend the joint Spiny Lobster and Coastal Migratory Pelagics FMPs), allow for public comment (immediately following the presentation) and take Council action.

Council Session: December 7, 2007, 8 a.m. - 12 noon.

From 8 a.m. - 8:15 a.m., the Council will receive a report from the SEDAR Committee and take action as appropriate.

From 8:15 a.m. - 8:30 a.m., the Council will receive a report from the joint Habitat and Ecosystem-based Committees and take action as appropriate.

From 8:30 a.m. - 8:45 a.m., the Council will receive a report from the SSC Selection Committee and take action as appropriate.

From 8:45 a.m. - 9 a.m., the Council will receive a report from the SOPPs Committee and take action as appropriate.

From 9 a.m. - 10 a.m., the Council will discuss a Comprehensive Allocation Amendment and provide guidance to staff.

From 10 a.m. - 10:30 a.m., the Council will review and develop comments on the Environmental Assessment for “Atlantic Highly Migratory Species Pelagic Longline Research”.

From 10:30 a.m. - 10:45 a.m., the Council will review and develop recommendations on Experimental Fishing Permits as necessary.

From 10:45 a.m. - 12 noon, the Council will receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal final Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by November 30, 2007.

Dated: November 13, 2007.
Tracey L. Thompson,
Acting Director, Office of Sustainable Fisheries, National Marine Fisheries Service.

[FR Doc. E7-22516 Filed 11-16-07; 8:45 am]

BILLING CODE 3510-22-S